DEPARTMENT OF TRANSPORTATION

Federal Transit Administration

Intent To Prepare an Environmental Impact Statement for Proposed Transit Improvements to the North Red and Purple Lines, Cook County, IL

AGENCY: Federal Transit Administration, U.S. Department of Transportation.

ACTION: Notice of Intent to Prepare an Environmental Impact Statement.

SUMMARY: The Federal Transit Administration (FTA), as the lead Federal agency, and the Chicago Transit Authority (CTA) intend to prepare a Tier 1 Environmental Impact Statement (Tier 1 EIS) for the North Red and Purple Line Modernization (RPM) Project in Cook County, Illinois. The CTA operates the rapid transit system in Cook County, Illinois. The proposed project, described more completely within, would bring the North Red and Purple lines up to a state of good repair from the track structure immediately north of Belmont Station in Chicago, Illinois to the Linden terminal in Wilmette, Illinois. The purpose of this Notice of Intent is to (1) alert interested parties regarding the intent to prepare the EIS, (2) to provide information on the nature of the proposed project and possible alternatives, and (3) to invite public participation in the EIS process.

DATES: Written comments on the scope of the EIS, including the project's purpose and need, the alternatives to be considered, the impacts to be evaluated, and the methodologies to be used in the evaluations should be sent to CTA on or before February 18, 2011. See ADDRESSES below for the address to which written public comments may be sent. Four public scoping meetings to accept comments on the scope of the EIS will be held on the following dates:

• Monday, January 24, 2011; 6 p.m. to 8:30 p.m.; at St. Augustine College, 1345 West Argyle Street, Chicago, IL 60640.

• Tuesday, January 25, 2011; 6 p.m. to 8:30 p.m.; at the Nicholas Senn High School, 5900 North Glenwood Avenue, Chicago, IL 60660.

• Wednesday, January 26, 2011; 6 p.m. to 8:30 p.m.; at the New Field Primary School, 1707 West Morse Avenue, Chicago, IL 60626.

• Thursday, January 27, 2011; 6 p.m. to 8:30 p.m.; at the Fleetwood-Jourdain Community Center, 1655 Foster Street, Evanston, IL 60201.

The buildings to be used for the scoping meetings are accessible to persons with disabilities. Any individual who requires special assistance or language translation, such as a sign language interpreter, to participate in the scoping meeting should contact Mr. Jeff Wilson, Government and Community Relations Officer, Chicago Transit Authority, at 312-681-2712 or jwilson@transitchicago.com, five days prior to the meeting.

Scoping materials describing the project purpose and need and the alternatives proposed for analysis will be available at the meetings and on the CTA Web site http://www.transitchicago.com/rpmproject. Paper copies of the scoping materials may also be obtained from Mr. Jeff Wilson, Government and Community Relations Officer, Chicago Transit Authority, at 312-681-2712 or jwilson@transitchicago.com.

An interagency scoping meeting will be held on Monday, January 24 at 10:30 a.m. at CTA Headquarters, in Conference Room 2A, 567 W. Lake Street, Chicago, IL 60661. Representatives of Native American Tribal governments and Federal, State, regional, and local agencies that may have an interest in any aspect of the project will be invited to be participating or cooperating agencies, as appropriate.

ADDRESSES: Comments will be accepted at the public scoping meetings or they may be sent to Mr. Steve Hands, Strategic Planning and Policy, Chicago Transit Authority, P.O. Box 7602, Chicago, IL 60680-7602, or via e-mail at RPM@transitchicago.com.

FOR FURTHER INFORMATION CONTACT: Mr. Reginald Arkell, Community Planner, Federal Transit Administration, Region V, 200 West Adams Street, Suite 320, Chicago, IL 60606, phone 312-886-3704, e-mail reginald.arkell@dot.gov.

SUPPLEMENTARY INFORMATION:

Scoping

The FTA and CTA invite all interested individuals and organizations, public agencies, and Native American Tribes to comment on the scope of the Tier 1 EIS, including the project's purpose and need, the alternatives to be studied, the impacts to be evaluated, and the evaluation methods to be used. The Tier 1 EIS will be a planning level EIS that will allow the CTA and FTA to use the National Environmental Policy Act (NEPA) process as a tool to involve agencies and the public in the decision making process for the project as well as to capture any associated or cumulative impacts on the environment. This process will ensure that: the complete 9.5-mile RPM corridor is analyzed; the EIS is used to help refine and prioritize design concepts, and; related components of the project are grouped together for future analysis. After this Tier 1 EIS process is complete, component projects can each be evaluated more specifically with a second-tier EIS and/or other NEPA environmental documentation as needed. These ensuing NEPA documents can reference and summarize information from the Tier 1 EIS and concentrate on the issues specific to the subsequent actions (40 CFR 1502.20). Comments should address (1) the project's priorities and appropriate cost-effective alternatives and components, and (2) any significant environmental impacts relating to the alternatives.

NEPA “scoping” (40 CFR 1501.7) has specific and fairly limited objectives, one of which is to identify the significant issues associated with alternatives that will be examined in detail in the Tier 1 EIS, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scoping process is completed, a scoping report and annotated outline will be prepared and shared with interested agencies and the public. The report and outline serves at least three worthy purposes, including (1) documenting the results of the scoping process; (2) contributing to the transparency of the process; and (3) providing a clear roadmap for concise development of the environmental document.

Purpose and Need for the Project

The purpose of the North Red and Purple Line Modernization project is to bring the existing crucial transit asset into a state of good repair, while reducing travel times, improving access to job markets, responding to shifts in travel demand, better utilizing existing transit infrastructure and providing access to persons with disabilities in the north lakefront and north suburbs of Chicago. This project would also support the area's economic development initiatives and current transit supportive development patterns.

The need for the project is based on the following considerations: the North Red and Purple Line infrastructure is significantly past its useful life as most of it was constructed between 1900 and 1922; much of the infrastructure is dilapidated and continued degradation could increase the cost of maintenance and compromise service in the future; transit trips are delayed and unreliable due to antiquated infrastructure; the community relies on these facilities for all trip types including work access and reverse commutes; 15 of the 21 stations within the project area do not have access for persons with disabilities; the volume of passengers, over 128,000 trips on an average weekday representing over 19% of all weekday and 23% of all weekend CTA rail trips, could not be accommodated either on the currently congested road network or through bus transportation alternatives; and the project area population is growing, highly transit-reliant, and diverse.

Project Location and Environmental Setting

The project area extends from the track structure immediately north of Belmont station to Linden station, which is approximately 9.5 miles and includes 21 stations and two rail yards, the Howard Yard and the Linden Yard. Currently, the Red and Purple Lines operate beside each other on 4 tracks for 5.7 miles from north of Belmont station to Howard station, of which 1.9 miles is located on steel elevated structure and 3.8 miles on earthen embankment. The Purple Line operates alone on 2 tracks for 3.8 miles from Howard station to Linden station on earthen embankment.

The project area traverses dense urban single and multi family residential, commercial, and educational land uses and includes portions of Chicago's North Side, Evanston, and Wilmette, Illinois. The project area includes numerous parks and cemeteries, and crosses the North Shore Channel of the Chicago River.

Alternatives

Several alternatives are proposed for analysis in the EIS. Public input received during scoping will help to select, reject and/or revise the following alternatives.

No Action Alternative: The No Action Alternative would maintain the status quo. This alternative would include the absolute minimum repairs required to keep the Red and Purple lines functional. Travel patterns would remain the same. Travel times would likely continue to increase and service reliability would continue to degrade due to the need to safely operate on systems not considered in a state of good repair. Additional ADA access would not be provided. Minor repairs and upgrades would be made using current capital funding levels. The number of stations and station entrances would remain at 21 and 23, respectively. No stations would be renovated. The No Action Alternative is used as a basis for comparison for the other alternatives.

Basic Rehabilitation Alternative: This alternative includes a strategic mix of repairs, rehabilitation, and replacement to bring the Evanston Branch (between Linden Terminal and Howard Station) and the North Red Line (between Belmont Station and Howard Station) into a minimal state of good repair. It would provide adequate service for the next 20 years. The stations, viaducts, and other structural elements would not be brought up to modern standards and would only meet minimal ADA requirements. Upgrades would be made to signals and communication systems. The number of stations and station entrances would remain at 21 and 23, respectively.

Evanston Branch: The Evanston Branch, between Linden Terminal and Howard Station, is the northern section of the study area and is approximately 3.8 miles long. This segment currently has 2 operating tracks with 8 stations (not including Howard). Only one station would be renovated to accommodate 8 car trains; two stations which are already accessible would receive minor repairs; the other six stations would be renovated to meet minimal ADA requirements. This alternative consists of upgrades to existing structures primarily within the existing CTA right-of-way and maintenance of the existing overall track alignment, structure, and station configurations.

North Red Line: The North Red Line, between Belmont Station and Howard Station, is the southern section of the study area and is approximately 5.8 miles long. This segment currently has 4 operating tracks with 13 stations. Eight stations would be renovated to meet minimal ADA requirements; one station would be reconstructed; the remaining four stations are already accessible and would receive minor repairs. This alternative consists of upgrades to existing structures primarily within the existing CTA right-of-way and maintaining the existing overall track alignment, structure, and station configurations. Express service with no stops between Howard and Belmont would continue to be provided in both directions during peak periods.

Basic Rehabilitation with Transfer Stations Alternative: This alternative includes all of the elements of the Basic Rehabilitation Alternative plus new transfer stations at Wilson and Loyola. The number of stations would remain at 21 and the total number of station entrances would increase to 25.

Evanston Branch: Same as Basic Rehabilitation Alternative above in this segment for this alternative.

North Red Line: This alternative includes all of the elements of the Basic Rehabilitation Alternative plus new transfer stations at Wilson and Loyola. The new transfer stations and 1 mile of associated structures would have a useful life of 60-80 years; the rest of the improvements would have a useful life of 20 years. Additional access to express service would be possible at the two new transfer stations. This alternative would allow for potential expanded hours of express service. Seven stations would be renovated to meet minimal ADA requirements; three stations would be reconstructed (two as transfer stations); the remaining three stations are already accessible and would receive minor repairs.

Modernization 4-Track Alternative: This alternative would provide modern amenities at stations, extend the useful life of the system for the next 60-80 years, increase speed and reliability, and address safety and accessibility concerns. This alternative would require significant right-of-way acquisitions. The number of stations would decrease to 17 and the total number of station entrances would increase to 31.

Evanston Branch: All stations would be reconstructed or renovated to meet modern standards for accessibility and safety including modern platform widths and clear lines of sight, in addition to being expanded to accommodate 8 car trains. Four stations would be reconstructed; the remaining two previously-modernized stations would receive minor repairs. Reconstruction of elevated structures and viaducts would bring them up to modern standards including clearances for cross streets underneath viaducts. Minimal acquisition would be required to straighten curves that currently slow service. The potential exists to consolidate stops while providing additional access points; examples of this could include: Adding a Washington entrance to Main station and removing South Blvd station; and adding a Gaffield entrance to Noyes station and a Church entrance to Davis station and removing Foster station.

North Red Line: All stations would be reconstructed or renovated to meet modern standards for accessibility and safety including modern platform widths and clear lines of sight. Nine stations would be reconstructed (two as transfer stations); the remaining one previously-modernized station would receive minor repairs. This alternative would provide express and local service in both directions by maintaining 4-tracks and would replace the existing structures and embankment with modern concrete aerial structure. This alternative would allow for potential expanded hours of express service. Substantial additional right-of-way would be required to increase platform widths and provide clear lines of sight, as well as to straighten curves that slow service. The potential exists to consolidate stops, while providing additional access points; examples of this could include: Adding an Ainslie entrance to Argyle station and removing Lawrence station; adding a Glenlake entrance to Granville station and a Hollywood entrance to Bryn Mawr station and removing Thorndale station; and providing additional access to Howard station at Rogers Avenue and removing Jarvis station.

Modernization 3-Track Alternative: This alternative would provide modern amenities at stations, extend the useful life of the system for the next 60-80 years, increase speed and reliability, and address safety and accessibility concerns. This alternative would remove one of the four tracks in the North Red Line corridor. The number of stations would decrease to 17 and the total number of station entrances would increase to 31. The number of stations to be reconstructed and repaired would be the same as the Modernization 4-Track Alternative above.

Evanston Branch: Same as Modernization 4-Track Alternative above in this segment for this alternative.

North Red Line: All stations would be reconstructed or renovated to meet modern standards for accessibility and safety including modern platform widths and clear lines of sight. This alternative would generally stay within the existing right-of-way, would eliminate one of the four existing tracks between Belmont and Howard to accommodate wider platforms, and would replace the existing structures and embankment with modern concrete aerial structure. Local service would be offered in both directions at all times and express service would be offered inbound in the morning and outbound in the evening; no reverse commute express service would be provided. Some right-of-way acquisition would be required to straighten curves that currently slow service. The potential exists to consolidate stops, while providing additional access points; possibilities would be the same as for the Modernization 4-Track Alternative above.

Modernization 2-Track Underground Alternative: This alternative would provide modern amenities at stations, extend the useful life of the system for the next 60-80 years, increase speed and reliability, and address safety and accessibility concerns. This alternative would operate underground in a new 2-track alignment in place of the current 4-track alignment in the North Red Line segment. The number of stations would decrease to 16 and the total number of station entrances would increase to 29.

Evanston Branch: Same as Modernization 4-Track Alternative above in this segment for this alternative.

North Red Line: This alternative would replace a significant portion of the existing 4-track elevated rail structure and embankment with a below-grade 2-track alignment. This alternative would provide a single more frequent local service in both directions between Linden and Belmont in this corridor; no express overlay service would be provided. The alternative alignment would begin north of Belmont and transition below ground, proceeding underneath the northbound Brown Line tracks. The alignment would continue northward generally following Sheffield/Sheridan to the intersection of Sheridan and Broadway, and then proceed north underneath Broadway until it transitions back to the elevated alignment just north of Loyola. Subway stations would be constructed at Addison, Irving Park, Wilson, Foster, Bryn Mawr, Glenlake, and Devon/Loyola. In total, seven modern stations would be constructed underground; one station would be reconstructed above ground; one previously-modernized station would receive minor repairs. The current 4-track earthen embankment between Loyola and Howard would be replaced with a 2-track modern concrete aerial structure. This alternative would require right-of-way acquisition outside of the existing Red Line alignment for station entrances and auxiliary structures. Curves would be straightened and new subway stops would be located to maximize train speed. The potential exists in the remaining elevated alignment to provide additional access to Howard station at Rogers Avenue and remove Jarvis station.

Possible Effects

The purpose of this Tier 1 EIS process is to study, in a public setting, the effects of the proposed project and its alternatives on the quality of the human and natural environment. Areas of investigation for transit projects generally include, but are not limited to: Land use, development potential, land acquisition and displacements, historic resources, visual and aesthetic qualities, air quality, noise and vibration, energy use, safety and security, and ecosystems, including threatened and endangered species. Investigation may reveal that the proposed project will or will not substantially affect many of these areas. Measures will be identified to avoid, minimize, or mitigate any significant adverse impacts.

FTA Procedures

The regulations implementing NEPA, as well as provisions of the Safe, Accountable, Flexible, Efficient Transportation Equity Act: A Legacy for Users (SAFETEA-LU), calls for public involvement in the EIS process. Section 6002 of SAFETEA-LU requires that FTA and CTA do the following: (1) Extend an invitation to other Federal and non-Federal agencies and Native American Tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American Tribes that may have an interest in the proposed project. It is possible that FTA and CTA will not be able to identify all Federal and non-Federal agencies and Native American Tribes that may have such an interest. Any Federal or non-Federal agency or Native American Tribe interested in the proposed project that does not receive an invitation to become a participating agency should notify at the earliest opportunity the Project Manager identified above under ADDRESSES.

A comprehensive public involvement program and a Coordination Plan for public and interagency involvement will be developed for the project and posted on CTA's Web site, http://www.transitchicago.com/rpmproject. The public involvement program includes a full range of activities including maintaining the project Web page on the CTA Web site and outreach to local officials, community and civic groups, and the public. Specific activities or events for involvement will be detailed in the project's public participation plan.

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document will be available for review at the CTA's offices and elsewhere; an electronic copy of the complete environmental document will also be available on the CTA's Web page.

The EIS will be prepared in accordance with NEPA and its implementing regulations issued by the Council on Environmental Quality (40 CFR Parts 1500-1508) and with the FTA/Federal Highway Administration regulations “Environmental Impact and Related Procedures” (23 CFR Part 771).

Issued on: December 22, 2010.
Marisol Simón,
Regional Administrator.

[FR Doc. 2010-33065 Filed 12-30-10; 8:45 am]

BILLING CODE 4910-57-P